DEPARTMENT OF TRANSPORTATION

Federal Aviation Administration

14 CFR Part 119

[Docket No. 28154; Amendment No. 119-13]

RIN 2120-AG03

Operating Requirements: Domestic, Flag, Supplemental, Commuter, and On-Demand Operations: Corrections and Editorial Changes

AGENCY: Federal Aviation Administration, DOT.

ACTION: Final rule; technical amendment.

SUMMARY: The Federal Aviation Administration (FAA) is making minor technical changes to a final rule published in the Federal Register on June 14, 1996. That final rule adopted corrections and editorial changes to several parts, which included an amendment to a section of part 119 that removed two subparagraphs. However, the FAA inadvertently did not also amend a separate section of part 119 to remove reference to the two obsolete subparagraphs. The FAA is issuing this technical amendment to correct that oversight.

DATES: Effective Date: Effective on May 12, 2010.

FOR FURTHER INFORMATION CONTACT: Alberta Brown, Flight Standards Service, Air Transportation Division, AFS-200, Federal Aviation Administration, 800 Independence Avenue, SW., Washington, DC 20591; telephone (202) 267-8321; e-mail: Alberta.Brown@faa.gov.

SUPPLEMENTARY INFORMATION: The Federal Aviation Administration (FAA) published a final rule in the Federal Register on June 14, 1996 (61 FR 30432) ¹ that adopted corrections and editorial changes to 14 CFR parts 119, 121, and 135. The amendment included one to § 119.21, which revised then paragraph (a) to remove (a)(3)(i) and (a)(3)(ii). The FAA should also have amended § 119.49 to remove the two obsolete subparagraphs referenced in paragraph (b)(11). The FAA is issuing today's action to correct that oversight.

¹ This 1996 final rule entitled “Operating Requirements: Domestic, Flag, Supplemental, Commuter, and On-Demand Operations: Corrections and Editorial Changes” was adopted to make corrections and editorial changes to the “Commuter Operations and General Certification and Operations Requirements” final rule (60 FR 65832; December 20, 1995).

This action makes the appropriate amendatory change to remove two obsolete subparagraphs in current § 119.49(b)(11). With this amendatory change, the reference to subparagraphs § 119.21(a)(3)(i) and (a)(3)(ii) will be removed from § 119.49(b)(11). This amendment will not impose any additional restrictions on operators affected by these regulations.

Technical Amendment

The technical amendment will remove the reference to § 119.21(a)(3)(i) and (a)(3)(ii) from § 119.49(b)(11).

List of Subjects in 14 CFR Part 119

Administrative practice and procedure, Air carriers, Aircraft, Aviation safety, Charter flights, Reporting, and recordkeeping requirements.

Accordingly, Title 14 of the Code of Federal Regulations (CFR) part 119 is corrected by making the following correcting amendment:

PART 119—CERTIFICATION: AIR CARRIERS AND COMMERCIAL OPERATORS

1. The authority citation for part 119 continues to read as follows:

Authority: 49 U.S.C. 106(g), 1153, 40101, 40102, 40103, 40113, 44105, 44106, 44111, 44701-44717, 44722, 44901, 44903, 44904, 44906, 44912, 44914, 44936, 44938, 46103, 46105.

2. Amend § 119.49 by revising paragraph (b) to read as set forth below.

§ 119.49 Contents of operations specifications.

* * * * *

(b) Each certificate holder conducting supplemental operations must obtain operations specifications containing all of the following:

(1) The specific location of the certificate holder's principal base of operations, and, if different, the address that shall serve as the primary point of contact for correspondence between the FAA and the certificate holder and the name and mailing address of the certificate holder's agent for service.

(2) Other business names under which the certificate holder may operate.

(3) Reference to the economic authority issued by the Department of Transportation, if required.

(4) Type of aircraft, registration markings, and serial number of each aircraft authorized for use.

(i) Subject to the approval of the Administrator with regard to form and content, the certificate holder may incorporate by reference the items listed in paragraph (b)(4) of this section into the certificate holder's operations specifications by maintaining a current listing of those items and by referring to the specific list in the applicable paragraph of the operations specifications.

(ii) The certificate holder may not conduct any operation using any aircraft not listed.

(5) Kinds of operations authorized.

(6) Authorization and limitations for routes and areas of operations.

(7) Special airport authorizations and limitations.

(8) Time limitations, or standards for determining time limitations, for overhauling, inspecting, and checking airframes, engines, propellers, appliances, and emergency equipment.

(9) Authorization for the method of controlling weight and balance of aircraft.

(10) Aircraft wet lease information required by § 119.53(c).

(11) Any authorization or requirement to conduct supplemental operations as provided by § 119.21(a)(3).

(12) Any authorized deviation or exemption from any requirement of this chapter.

(13) An authorization permitting, or a prohibition against, accepting, handling, and transporting materials regulated as hazardous materials in transport under 49 CFR parts 171 through 180.

(14) Any other item the Administrator determines is necessary.

* * * * *

Issued in Washington, DC on May 7, 2010.
Pamela Hamilton-Powell,
Director, Office of Rulemaking, Aviation Safety.

[FR Doc. 2010-11266 Filed 5-11-10; 8:45 am]

BILLING CODE 4910-13-P